DEPARTMENT OF HEALTH AND HUMAN SERVICES

Announcement of Requirements and Registration for Beat Down Blood Pressure Challenge

AGENCY: Office of the National Coordinator for Health Information Technology, Department of Health and Human Services.

Award Approving Official: Jodi Daniel, Director, Office of Policy and Planning.

ACTION: Notice.

SUMMARY: The Office of the National Coordinator for Health Information Technology (ONC), in partnership with Million Hearts, an HHS initiative to prevent a million heart attacks and strokes in five years, announces the launch of the Beat Down Blood Pressure Video Challenge. This challenge is an open call for the public to create and submit short, compelling videos sharing how they use health IT or consumer e-health tools to manage high blood pressure. Health care providers are also encouraged to apply to demonstrate how they use electronic health records and other health IT to manage their patients' high blood pressure. This is the second in a series of Health IT video contests that will occur throughout 2012. The goal of this video contest series is to generate content that will be used to motivate and inspire others to leverage technology to be more engaged partners in improving their health and health care. Each challenge will be a call to action for members of the public to create a short video clip [2 minutes or less] on a particular theme, and will award cash prizes to winners in several categories.

DATES: Effective on March 21, 2012.

FOR FURTHER INFORMATION CONTACT: Erin Poetter, Consumer e-Health Policy Analyst, erin.poetter@hhs.gov | 202.205.3310.

SUPPLEMENTARY INFORMATION:

Subject of Challenge Competition

We invite the general public to create short (<2 min long), compelling videos sharing how they use health IT or consumer e-health tools to manage high blood pressure. Videos will demonstrate how health IT is used to support blood pressure control through activities such as routine monitoring of blood pressure, taking blood pressure medications as prescribed, and maintaining a healthy lifestyle that helps lower blood pressure. High blood pressure (aka “hypertension”) affects one in three adults in the U.S. and is sometimes referred to as the “silent killer” because it damages the brain, heart, eyes, and kidneys while causing no symptoms. If left untreated, high blood pressure can result in strokes, heart attacks, and kidney failure. Fortunately there are steps that each of us can take to prevent or manage high blood pressure and change our future health for the better.

Participants can demonstrate how they use health IT or consumer e-health tools to monitor their blood pressure, take medication as prescribed to maintain low blood pressure, and/or make lifestyle changes that reduce your risks and enhance heart health. Participants may also discuss how they are partnering with their health care provider to leverage health IT to better monitor and manage their blood pressure.

Health care providers can demonstrate how they use electronic health records and other health IT to manage their patients' hypertension, help them take their medications as prescribed, and help their patients adopt healthy habits that enhance control of blood pressure.

Eligibility Rules for Participating in the Competition

To be eligible to win a prize under this challenge, an individual or entity—

(1) Shall have registered to participate in the competition under the rules promulgated by HHS;

(2) Shall have complied with all the requirements under this section;

(3) In the case of a private entity, shall be incorporated in and maintain a primary place of business in the United States, and in the case of an individual, whether participating singly or in a group, shall be a citizen or permanent resident of the United States; and

(4) May not be a Federal entity or Federal employee acting within the scope of their employment.

(5) Shall not be an HHS employee working on their applications or submissions during assigned duty hours.

(6) Shall not be an employee of the Office of the National Coordinator.

(7) Federal grantees may not use Federal funds to develop COMPETES Act challenge applications unless consistent with the purpose of their grant award.

(8) Federal contractors may not use Federal funds from a contract to develop COMPETES Act challenge applications or to fund efforts in support of a COMPETES Act challenge submission.

All individual members of a team must meet the eligibility requirements.

An individual or entity shall not be deemed ineligible because the individual or entity used Federal facilities or consulted with Federal employees during a competition if the facilities and employees are made available to all individuals and entities participating in the competition on an equitable basis.

Registration Process for Participants

1. During the Challenge Submission Period, visit http://BloodPressure.Challenge.gov and register (Registration is free) or log in with an existing ChallengePost account. After a Contestant signs up, a confirmation email will be sent to the email address provided. The Contestant must use the confirmation email to verify his or her email address. The registered Contestant will then be able to enter a Submission.

2. On BloodPressure.Challenge.gov, click “Accept this challenge” to register your interest in participating. This step ensures that you will receive important challenge updates.

3. Create a video and ensure the following (please read the Official Rules on http://BloodPressure.challenge.gov for complete requirements):

a. Your video shares ONE activity to prevent high blood pressure or monitor blood pressure.

b. Your video demonstrates ONE technology used as part of or in support of the activity to prevent or monitor high blood pressure.

c. Your video encourages viewers to visit www.HealthIT.gov.

d. Your video is no longer than 2 minutes.

4. Confirm that you have read and agreed to the Official Rules. A Contestant will be required to fill out the submission form on BloodPressure.Challenge.gov and must provide:

• The title of the Video;

• A link to the Video on YouTube.com or Vimeo.com (the Video should be no longer than 2 minutes);

• A text description of an activity to prevent high blood pressure or monitor blood pressure and how technology is a part of or supportive of the activity;

• A transcript of the words spoken or sung in the video;

• Categories for the participant type (consumer/caregiver or healthcare provider), activity type, and the technology featured in the video; and

• Uploaded consent forms for everyone who appears in the video regardless of age.

All individuals that appear in a Video must complete and sign the Video Consent Form. If a minor appears in the Video, the minor's parent/legal guardian must also sign the Video Consent Form. A Submission will not be considered complete and eligible to win prizes without a completed Video Consent Form being uploaded from all individuals that appear in the Video. All completed Video Consent Forms must include a handwritten signature, and be scanned, combined in to a single file (ZIP, PDF, or doc), and uploaded on the submission form on BloodPressure.Challenge.gov.

Amount of the Prize
Winner | Prize | Quantity
Consumer Monitoring Prize | $1,000 | 1
Consumer Taking Meds Prize | 1,000 | 1
Consumer Prevention Prize | 1,000 | 1
Provider Monitoring Prize | 1,000 | 1
Provider Med Management Prize | 1,000 | 1
Popular Choice | 500 | 1

Basis Upon Which Winner Will Be Selected

To be considered for a Category Prize, a Submission must meet the following award category requirements:

Category | Requirements
Consumer Monitoring Prize | Video must describe how a patient, consumer or caregiver engages in an activity to monitor blood pressure using health information technology.
Consumer Taking Meds Prize | Video must describe how a patient, consumer or caregiver engages in an activity related to taking blood pressure medications as prescribed using health information technology.
Consumer Prevention Prize | Video must describe how a patient, consumer or caregiver engages in an activity related to maintaining a healthy lifestyle that supports low blood pressure and uses health information technology as part of or in support of the activity.
Provider Monitoring Prize | Video must describe how a healthcare provider (e.g. doctor, nurse, pharmacist, etc.) engages in an activity related to monitoring patients' blood pressure using health information technology.
Provider Med Management Prize | Video must describe how a professional healthcare provider engages in an activity to help patients manage their blood pressure medication using health information technology.

Submissions that meet category requirements will be evaluated by an internal panel of judges for Category Prizes based on the following criteria (to be equally weighted):

1. Quality of the Idea (Includes elements such as the relevance and originality of your use of health IT)

2. Implementation of the Idea (Includes elements such as the quality of the video content, narrative and visual appearance)

3. Potential Impact on health IT adoption (Includes whether the video is compelling, instructive, and easy to follow so that others can perform similar activities using health technology)

The one (1) Contestant whose Submissions earns the highest overall score in their respective category will win, respectively, the prizes identified below in Section 8. In the event of a tie, winners will be selected based on their score on the criteria described in (1), then (2), and finally (3). If there is still a tie then the winner will be selected based on a vote by the judging panel.

Authority: 15 U.S.C. 3719.

Dated: March 16, 2012.
Erin Poetter,
Consumer e-Health Policy Analyst, Office of the National Coordinator for Health Information Technology (ONC), Office of the Secretary (OS).

[FR Doc. 2012-6979 Filed 3-22-12; 8:45 am]

BILLING CODE 4150-45-P